DEPARTMENT OF HOMELAND SECURITY

Coast Guard

33 CFR Part 117

[Docket No. USCG-2016-0635]

Drawbridge Operation Regulation; Lake Washington Ship Canal, Seattle, WA

AGENCY: Coast Guard, DHS.

ACTION: Notice of temporary deviation from regulation; modification.

SUMMARY: The Coast Guard has modified a temporary deviation from the operating schedule that governs Seattle Department of Transportation's (SDOT) Fremont Bridge, across the Lake Washington Ship Canal, mile 2.6, at Seattle, WA. The modified deviation is necessary to accommodate heavy pedestrian and cycling traffic across the bridge during the `Fun Ride' event and Lake Union 10K Run event. This modified deviation allows the bridge to remain in the closed-to-navigation position and need not open to maritime traffic.

DATES: This deviation is effective from 7:30 a.m. to 8:30 a.m. and 10:30 a.m. to 12:30 p.m. on August 14, 2016.

ADDRESSES: The docket for this deviation, [USCG-2016-0635] is available at http://www.regulations.gov. Type the docket number in the “SEARCH” box and click “SEARCH.” Click on Open Docket Folder on the line associated with this deviation.

FOR FURTHER INFORMATION CONTACT: If you have questions on this temporary deviation, call or email Mr. Steven Fischer, Bridge Administrator, Thirteenth Coast Guard District; telephone 206-220-7282, email d13-pf-d13bridges@uscg.mil.

SUPPLEMENTARY INFORMATION: On July 15, 2016, the Coast Guard published a temporary deviation entitled “Drawbridge Operation Regulation; Lake Washington Ship Canal, Seattle, WA” in the Federal Register (81 FR 45971). This document was necessary for Seattle Department of Transportation (SDOT) to temporarily deviate from the operating schedule for the Fremont Bridge, mile 2.6, crossing the Lake Washington Ship Canal at Seattle, WA. This modification adds an additional closure hour on August 14, 2016 for these events. The deviation is necessary to accommodate heavy pedestrian and cycling traffic across the bridge during the `Fun Ride' event and Lake Union 10K Run event. To facilitate these events, the double bascule draw of the bridge will not open for vessel traffic during the effective date and times. The Fremont Bridge provides a vertical clearance of 14 feet (31 feet of vertical clearance for the center 36 horizontal feet) in the close-to-navigation position. The clearance is referenced to the mean water elevation of Lake Washington. The normal operating schedule for the Fremont Bridge is found at 33 CFR 117.1051. Waterway usage on the Lake Washington Ship Canal ranges from commercial tug and barge to small pleasure craft. No early Sunday morning bridge opening requests have been received during August for the Fremont Bridge in the last five years.

Vessels able to pass through the bridge in the closed-to-navigation position may do so at anytime. The bridge will be able to open for emergencies, and there is no immediate alternate route for vessels to pass. The Coast Guard will also inform the users of the waterways through our Local and Broadcast Notices to Mariners of the change in operating schedule for the bridge so that vessels can arrange their transits to minimize any impact caused by the temporary deviation.

In accordance with 33 CFR 117.35(e), the drawbridge must return to its regular operating schedule immediately at the end of the designated time period. This deviation from the operating regulations is authorized under 33 CFR 117.35.

Dated: July 26, 2016.
Steven M. Fischer,
Bridge Administrator, Thirteenth Coast Guard District.

[FR Doc. 2016-18080 Filed 7-29-16; 8:45 am]

BILLING CODE 9110-04-P